DEPARTMENT OF ENERGY

Federal Energy Regulatory Commission

Combined Notice of Filings #1

Take notice that the Commission received the following Complaints and Compliance filings in EL Dockets:

Docket Numbers: EL24-95-000; QF16-365-004; QF16-379-004; QF16-381-003; QF16-382-003; QF16-369-004; QF21-661-001; QF16-366-003; QF24-367-001; QF24-368-001.

Applicants: Maple Road Solar LLC, Clear Lake Solar LLC, Windham Solar LLC, Windham Solar LLC, Windham Solar LLC, Windham Solar LLC, Windham Solar LLC, Windham Solar LLC, Windham Solar LLC, ALLCO FINANCE LIMITED.

Description: Petition for Enforcement of ALLCO Finance Limited.

Filed Date: 3/27/24.

Accession Number: 20240327-5313.

Comment Date: 5 p.m. ET 4/17/24.

Docket Numbers: EL24-96-000.

Applicants: NATURAL RESOURCES DEFENSE COUNCIL, Sierra Club, Sustainable FERC Project, Sierra Club; Natural Resources Defense Council, Inc.; and Sustainable FERC Project v. Southwest Power Pool, Inc.

Description: Complaint of Sierra Club, et al. v. Southwest Power Pool, Inc.

Filed Date: 4/1/24.

Accession Number: 20240401-5239.

Comment Date: 5 p.m. ET 4/22/24.

Take notice that the Commission received the following electric rate filings:

Docket Numbers: ER20-1863-008.

Applicants: Ingenco Wholesale Power, L.L.C.

Description: Compliance filing: Informational Filing on Reactive Tariff ER20-1863 and Request for Waiver to be effective N/A.

Filed Date: 4/1/24.

Accession Number: 20240401-5001.

Comment Date: 5 p.m. ET 4/22/24.

Docket Numbers: ER24-800-001.

Applicants: Alabama Power Company, Georgia Power Company, Mississippi Power Company.

Description: Tariff Amendment: Alabama Power Company submits tariff filing per 35.17(b): Horus Alabama 1 (Alawest 1 Solar) LGIA Deficiency Response to be effective 12/15/2023.

Filed Date: 4/1/24.

Accession Number: 20240401-5389.

Comment Date: 5 p.m. ET 4/22/24.

Docket Numbers: ER24-801-001.

Applicants: Alabama Power Company, Georgia Power Company, Mississippi Power Company.

Description: Tariff Amendment: Alabama Power Company submits tariff filing per 35.17(b): Horus Alabama 1 (Alawest 2 Solar) LGIA Deficiency Response to be effective 12/15/2023.

Filed Date: 4/1/24.

Accession Number: 20240401-5395.

Comment Date: 5 p.m. ET 4/22/24.

Docket Numbers: ER24-802-001.

Applicants: Alabama Power Company, Georgia Power Company, Mississippi Power Company.

Description: Tariff Amendment: Alabama Power Company submits tariff filing per 35.17(b): Yellow Creek Solar LGIA Deficiency Response to be effective 12/15/2023.

Filed Date: 4/1/24.

Accession Number: 20240401-5418.

Comment Date: 5 p.m. ET 4/22/24.

Docket Numbers: ER24-994-001.

Applicants: PJM Interconnection, L.L.C.

Description: Tariff Amendment: Response to Deficiency Letter to be effective 3/25/2024.

Filed Date: 3/29/24.

Accession Number: 20240329-5443.

Comment Date: 5 p.m. ET 4/19/24.

Docket Numbers: ER24-995-001.

Applicants: PJM Interconnection, L.L.C.

Description: Tariff Amendment: Response to Deficiency Letter to be effective 3/26/2024.

Filed Date: 3/29/24.

Accession Number: 20240329-5431.

Comment Date: 5 p.m. ET 4/19/24.

Docket Numbers: ER24-1001-001.

Applicants: PJM Interconnection, L.L.C.

Description: Tariff Amendment: Response to Deficiency Letter to be effective 3/26/2024.

Filed Date: 3/29/24.

Accession Number: 20240329-5424.

Comment Date: 5 p.m. ET 4/19/24.

Docket Numbers: ER24-1035-001.

Applicants: 20SD 8me LLC.

Description: Tariff Amendment: 20SD 8me LLC Supplement to MBR Application to be effective 2/1/2024.

Filed Date: 4/1/24.

Accession Number: 20240401-5356.

Comment Date: 5 p.m. ET 4/11/24.

Docket Numbers: ER24-1170-001.

Applicants: PJM Interconnection, L.L.C.

Description: Tariff Amendment: AMD of Amended ISA, SA No. 3634; S14 in Docket ER24-1170 to be effective 4/2/2024.

Filed Date: 4/1/24.

Accession Number: 20240401-5320.

Comment Date: 5 p.m. ET 4/22/24.

Docket Numbers: ER24-1660-000.

Applicants: Oak Leaf Solar XVIII LLC.

Description: Baseline eTariff Filing: Oak Leaf Solar XVIII LLC (DIA 7) MBR Tariff to be effective 5/29/2024.

Filed Date: 3/29/24.

Accession Number: 20240329-5379.

Comment Date: 5 p.m. ET 4/19/24.

Docket Numbers: ER24-1661-000.

Applicants: Oak Leaf Solar XXII LLC.

Description: Baseline eTariff Filing: Oak Leaf Solar XXII LLC (DIA 1) MBR Tariff to be effective 5/29/2024.

Filed Date: 3/29/24.

Accession Number: 20240329-5381.

Comment Date: 5 p.m. ET 4/19/24.

Docket Numbers: ER24-1662-000.

Applicants: Oak Leaf Solar XXVI LLC.

Description: Baseline eTariff Filing: Oak Leaf Solar XXVI LLC (DIA 2) MBR Tariff to be effective 5/29/2024.

Filed Date: 3/29/24.

Accession Number: 20240329-5387.

Comment Date: 5 p.m. ET 4/19/24.

Docket Numbers: ER24-1663-000.

Applicants: Oak Leaf Solar 100 LLC.

Description: Baseline eTariff Filing: Oak Leaf Solar 100 LLC MBR Tariff to be effective 5/29/2024.

Filed Date: 3/29/24.

Accession Number: 20240329-5391.

Comment Date: 5 p.m. ET 4/19/24.

Docket Numbers: ER24-1664-000.

Applicants: Airport Solar I, LLC.

Description: Baseline eTariff Filing: Airport Solar I, LLC MBR Tariff to be effective 5/29/2024.

Filed Date: 3/29/24.

Accession Number: 20240329-5396.

Comment Date: 5 p.m. ET 4/19/24.

Docket Numbers: ER24-1665-000.

Applicants: Oak Leaf Solar 56 LLC.

Description: Baseline eTariff Filing: Oak Leaf Solar 56 LLC MBR Tariff to be effective 5/29/2024.

Filed Date: 3/29/24.

Accession Number: 20240329-5398.

Comment Date: 5 p.m. ET 4/19/24.

Docket Numbers: ER24-1666-000.

Applicants: Basin Electric Power Cooperative.

Description:§ 205(d) Rate Filing: Submission of Revised Wholesale Power Contract FERC Rate Schedule No. 17 to be effective 12/31/9998.

Filed Date: 3/29/24.

Accession Number: 20240329-5399.

Comment Date: 5 p.m. ET 4/19/24.

Docket Numbers: ER24-1667-000.

Applicants: Morris Ridge Solar Energy Center, LLC.

Description: Baseline eTariff Filing: 2024-03-29 Initial Market-Based Rate Petition—Morris Ridge Solar Energy Center to be effective 5/29/2024.

Filed Date: 3/29/24.

Accession Number: 20240329-5419.

Comment Date: 5 p.m. ET 4/19/24.

Docket Numbers: ER24-1668-000.

Applicants: NorthWestern Corporation.

Description: § 205(d) Rate Filing: Single-Issue Depreciation Filing to be effective 1/1/2024.

Filed Date: 3/29/24.

Accession Number: 20240329-5457.

Comment Date: 5 p.m. ET 4/19/24.

Docket Numbers: ER24-1669-000.

Applicants: Duke Energy Progress, LLC.

Description: § 205(d) Rate Filing: Ministerial Revisions to Rate Schedule No. 199 to be effective 6/1/2024.

Filed Date: 4/1/24.

Accession Number: 20240401-5250.

Comment Date: 5 p.m. ET 4/22/24.

Docket Numbers: ER24-1670-000.

Applicants: Dynasty Power Inc.

Description: Compliance filing: Cost Justification Regarding Certain WECC Spot Market Sales 2024 to be effective N/A.

Filed Date: 4/1/24.

Accession Number: 20240401-5294.

Comment Date: 5 p.m. ET 4/22/24.

Docket Numbers: ER24-1671-000.

Applicants: Southern California Edison Company.

Description: § 205(d) Rate Filing: SCE 2024 TACBAA Update to be effective 6/1/2024.

Filed Date: 4/1/24.

Accession Number: 20240401-5327.

Comment Date: 5 p.m. ET 4/22/24.

Docket Numbers: ER24-1672-000.

Applicants: Duke Energy Carolinas, LLC.

Description: § 205(d) Rate Filing: Revisions to Joint OATT Formula Transmission Rates-Storm Reserve Due to 2020-23 to be effective 6/1/2024.

Filed Date: 4/1/24.

Accession Number: 20240401-5332.

Comment Date: 5 p.m. ET 4/22/24.

Docket Numbers: ER24-1674-000.

Applicants: Orange and Rockland Utilities, Inc.

Description: § 205(d) Rate Filing: O&R Undergrounding 2024 to be effective 4/1/2024.

Filed Date: 4/1/24.

Accession Number: 20240401-5392.

Comment Date: 5 p.m. ET 4/22/24.

Docket Numbers: ER24-1675-000.

Applicants: Public Service Company of New Mexico.

Description: § 205(d) Rate Filing: Annual Real Power Loss Factor Filing for 2024 to be effective 6/1/2024.

Filed Date: 4/1/24.

Accession Number: 20240401-5400.

Comment Date: 5 p.m. ET 4/22/24.

Docket Numbers: ER24-1676-000.

Applicants: MEMS Industrial Supply LLC.

Description: Baseline eTariff Filing: Baseline new to be effective 4/2/2024.

Filed Date: 4/1/24.

Accession Number: 20240401-5429.

Comment Date: 5 p.m. ET 4/22/24.

Docket Numbers: ER24-1677-000.

Applicants: Midcontinent Independent System Operator, Inc.

Description: § 205(d) Rate Filing: 2024-04-01_SA 4271 NIPSCO-Ridgeway Power GIA (J1358) to be effective 6/1/2024.

Filed Date: 4/1/24.

Accession Number: 20240401-5470.

Comment Date: 5 p.m. ET 4/22/24.

Docket Numbers: ER24-1678-000.

Applicants: PJM Interconnection, L.L.C.

Description: Tariff Amendment: Notice of Cancellation of WMPA, SA No. 5826; AF2-215 re: Withdrawal to be effective 6/3/2024.

Filed Date: 4/1/24.

Accession Number: 20240401-5533.

Comment Date: 5 p.m. ET 4/22/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: April 1, 2024.
Debbie-Anne A. Reese,
Acting Secretary.

[FR Doc. 2024-07322 Filed 4-5-24; 8:45 am]

BILLING CODE 6717-01-P